DEPARTMENT OF JUSTICE

Notice of Lodging Proposed Consent Decree

In accordance with Departmental Policy, 28 CFR 50.7, notice is hereby given that a proposed Consent Decree in United States v. Sierra Properties I, LLC, Civil No. 8:09 CV-1400-T, was lodged with the United States District Court for the Middle District of Florida on July 28, 2009.

This proposed Consent Decree concerns a complaint filed by the United States against Sierra Properties I, LLC, pursuant to Sections 301(a) and 404(s) of the Clean Water Act, 33 U.S.C. 1311(a), 1344(s) to obtain injunctive relief and impose civil penalties against the Defendant for violating the Clean Water Act by discharging fill material in violation of a permit into waters of the United States. The proposed Consent Decree resolves these allegations by requiring the Defendant to pay a civil penalty. The Department of Justice will accept written comments relating to this proposed Consent Decree for thirty (30) days from the date of publication of this Notice. Please address comments to E. Kenneth Stegeby, United States Attorney's Office, Middle District of Florida, 400 North Tampa Street, Suite 3200, Tampa, Florida 33602 and refer to United States v. Sierra Properties I, LLC, Civil No. 8:09 CV-1400-T.

The proposed Consent Decree may be examined at the Clerk's Office, Sam M. Gibbons United States Courthouse, 2nd Floor, 801 North Florida Avenue, Tampa, Florida 33603. In addition, the proposed Consent Decree may be viewed at http://www.usdoj.gov/enrd/Consent_Decrees.html.

Maureen M. Katz,
Assistant Section Chief, Environment & Natural Resources Division.

[FR Doc. E9-18743 Filed 8-5-09; 8:45 am]

BILLING CODE; P